DEPARTMENT OF THE INTERIOR

National Park Service

[NPS-WASO-NAGPRA-NPS0039348; PPWOCRADN0-PCU00RP14.R50000]

Notice of Intended Disposition: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) intends to carry out the disposition of human remains and associated funerary objects removed from Federal or Tribal lands to the lineal descendants, Indian Tribe, or Native Hawaiian organization with priority for disposition in this notice.

DATES: Disposition of the human remains and associated funerary objects in this notice may occur on or after February 18, 2025. If no claim for disposition is received by January 20, 2026, the human remains and associated funerary objects in this notice will become unclaimed human remains and associated funerary objects.

ADDRESSES: Jacqueline Rodgers, U.S. Army Corps of Engineers, Tulsa District, 2488 East 81st Street, Tulsa, OK 74137, telephone (918) 669-4964, email jacqueline.rodgers@usace.army.mil.

SUPPLEMENTARY INFORMATION: This notice is published as part of the National Park Service's administrative responsibilities under NAGPRA. The determinations in this notice are the sole responsibility of the USACE Tulsa, and additional information on the human remains and associated funerary objects in this notice, including the results of consultation, can be found in the related records. The National Park Service is not responsible for the identifications in this notice.

Abstract of Information Available

Based on the information available, human remains representing, at least, eight individuals have been reasonably identified. The, at least, 10 associated funerary objects are one pocketknife, one .22 caliber bullet, one brooch, and seven lots of coffin hardware and coffin fill. In the 1840s, The Chickasaw Nation citizens founded the community of Willis along the Red River in what became Marshall County, Oklahoma. A city cemetery was established that was estimated to hold 500 graves, many of which were unmarked. Between December 1942 and March 1943, USACE Tulsa contracted a company to relocate Willis Cemetery prior to the inundation of Lake Texoma. Due to the age of the cemetery at the time and the loss of original grave markers, several internments were missed during the relocation effort. Over time, multiple inadvertent discoveries of human remains have occurred eroding from the shoreline of Lake Texoma from the original Willis Cemetery location. Site 34MA86, previously recorded as a precontact artifact scatter, was updated to a multicomponent site to include the Willis Cemetery. The remains of at least eight individuals with funerary objects have been recovered over time. In February 1998 two adults and one child were recovered with three lots of coffin hardware with the assistance of a representative from Chickasaw Nation. In 2001 the remains of one child and one young adult male with funerary objects including two lots of coffin hardware and fill, one pocket knife, and one .22 caliber bullet were recovered. In 2008 the remains of one young adult female with no associated funerary objects were recovered by law enforcement, determined to be not of forensic interest, and remitted to the Oklahoma Archaeological Survey (OAS). In August 2016 OAS was informed of an inadvertent discovery, and in conjunction with USACE Tulsa exhumed two individuals and funerary objects including two lots of coffin hardware and fill, and one brooch. Currently all eight individuals and all funerary objects are located at the Tulsa District Archaeological Repository.

Determinations

The USACE Tulsa has determined that:

• The human remains described in this notice represent the physical remains of eight individuals of Native American ancestry.

• The at least 10 objects described in this notice are reasonably believed to have been placed intentionally with or near individual human remains at the time of death or later as part of the death rite or ceremony.

• The Chickasaw Nation has priority for disposition of the human remains and associated funerary objects described in this notice.

Claims for Disposition

Written claims for disposition of the human remains and associated funerary objects in this notice must be sent to the appropriate official identified in this notice under ADDRESSES. If no claim for disposition is received by January 20, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after February 18, 2025. If competing claims for disposition are received, the USACE Tulsa must determine the most appropriate claimant prior to disposition. Requests for joint disposition of the human remains and associated funerary objects are considered a single request and not competing requests. The USACE Tulsa is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01184 Filed 1-16-25; 8:45 am]

BILLING CODE 4312-52-P